DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer on (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project Title: Interim Evaluation of the Bright Futures for Women's Health and Wellness (BFWHW) Initiative, Emotional Wellness Consumer Tools—NEW.

Purpose: The purpose of this project is to design and implement a three-year interim evaluation to address initial outcomes for the BFWHW emotional wellness tools targeted at consumers. The project is funded by the Health Resources and Services Administrations (HRSA), Office of Women's Health (OWH). The evaluation will seek to determine (1) the acceptability of the tools by the target audiences, (2) strategies for ensuring their ongoing use, and (3) the outcomes associated with the use of these tools in three to four selected primary care sites.

The evaluation team will work with HRSA OWH and an Expert Committee to identify the questions of interest for the evaluation plan and methodology. There will be two major components—a descriptive/process component focusing on the design and implementation of the program's intervention and an impact component focusing on the preliminary outcomes of the intervention on the target audiences and their behavioral intentions.

Respondents:

Female consumers (adolescents between the ages of 13 and 17 and adults 18 and older) who receive services from primary care sites or community service organizations will receive a written survey on site at the time of service.

Distributors of the Consumer Tools (e.g., healthcare providers, program staff, and community stakeholders/organizations) from the three to four selected HRSA-funded program sites will respond to a web-based written survey.

Female consumers (adolescents between the ages of 13 and 17 and adults 18 and older) who receive services from primary care sites or community service organizations will be invited to participate in a focus group.

Annual Burden Estimates
Form | Number of respondents | Responses per respondent | Total responses | Hours per response | Total burden hours
Survey of Consumers | 563 | 1 | 563 | 0.5 | 281.5
Survey of the Distributors of the Consumer Tools | 40 | 1 | 40 | 0.5 | 20
Consumer Focus Groups | 4 sites × 16 focus group participants per site = 64 | 1 | 64 | 1.5 | 96
Total | 667 | 3 | 667 | 2.5 | 397.5

E-mail comments to paperwork@hrsa.gov or mail the HRSA Reports Clearance Officer, Room 10-33, Parklawn Building, 5600 Fishers Lane, Rockville, MD 20857. Written comments should be received within 60 days of this notice.

Dated: May 5, 2009.
Alexandra Huttinger,
Director, Division of Policy Review and Coordination.

[FR Doc. E9-11086 Filed 5-12-09; 8:45 am]

BILLING CODE 4165-15-P